FEDERAL COMMUNICATIONS COMMISSION

47 CFR Part 36 and 54

[WC Docket Nos. 10-90, 23-328, 14-58, 09-197; WT Docket No. 10-208; FCC 23-87; FR ID 262480]

Connect America Fund, Alaska Connect Fund, ETC Annual Reports and Certifications, Telecommunications Carriers Eligible To Receive Universal Service Support, Universal Service Reform—Mobility Fund

AGENCY: Federal Communications Commission.

ACTION: Final rule; announcement of effective date.

SUMMARY: In this document, the Federal Communications Commission (Commission) announces that the Office of Management and Budget (OMB) has approved, for a period of three years, an information collection associated with the rules for the Connect America Fund contained in the Commission's Connect America Fund Order (Order) published April 10, 2024, WC Docket No. 10-90 et al., FCC 23-87. This document is consistent with the Order, which stated that the Commission would publish a document in the Federal Register announcing the effective date of the revised information collection requirement.

DATES: The amendments to §§ 36.4 (amendatory instruction 2), 54.903 (amendatory instruction 18), and the removal and reservation of 54.1306 (amendatory instruction 22), published at 89 FR 25147, on April 10, 2024, are effective November 25, 2024.

FOR FURTHER INFORMATION CONTACT: Jesse Jachman, Wireline Competition Bureau at (202) 418-7400 or TTY (202) 418-0484. For additional information concerning the Paperwork Reduction Act information collection requirements contact Nicole Ongele at (202) 418-2991 or via email at Nicole.Ongele@fcc.gov.

SUPPLEMENTARY INFORMATION: The Commission submitted revised information collection requirements for review and approval by OMB, as required by the Paperwork Reduction Act (PRA) of 1995, on April 10, 2024. OMB approved the revised information collection requirements on October 16, 2024. The information collection requirements are contained in the Commission's Connect America Fund Order, FCC 23-87, published at 89 FR 25147, April 10, 2024. The OMB Control Number is 3060-0233. The Commission publishes this document as an announcement of the effective date of the rules published on April 10, 2024. If you have any comments on the burden estimates listed in the following, or how the Commission can improve the collections and reduce any burdens caused thereby, please contact Nicole Ongele, Federal Communications Commission, 45 L Street NE, Washington, DC 20554. Please include the OMB Control Number, 3060-0233, in your correspondence. The Commission will also accept your comments via email at PRA@fcc.gov. To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the Commission is notifying the public that it received OMB approval on October 16, 2024, for the amendments to 47 CFR 36.4,54.903 and the removal and reservation of 47 CFR 54.1306 published at 89 FR 25147, April 10, 2024.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0233.

The foregoing notice is required by the Paperwork Reduction Act of 1995, Public Law 104-13, October 1, 1995, and 44 U.S.C. 3507.

The total annual reporting burdens and costs for the respondents are as follows:

OMB Control Number: 3060-0233.

OMB Approval Date: October 16, 2024.

OMB Expiration Date: October 31, 2027.

Title: Rate-of-Return Carrier Universal Service Reporting Requirements; Waiver of Local Exchange Carrier Study Area Boundary Changes.

Form Number: FCC Form 507, FCC Form 508 and FCC Form 509.

Type of Review: Revision of a currently approved collection.

Respondents: Business or other for-profit entities, not-for-profit institutions.

Number of Respondents and Responses: 1,098 respondents; 3,627 responses.

Estimated Time per Response: 1 hours-22 hours.

Frequency of Response: Annual reporting requirements.

Obligation to Respond: Required to obtain or retain benefits. Statutory authority for this information collection is contained in 47 U.S.C. 151-154, 214, 218-220, 221(c), 254, and 303(r).

Total Annual Burden: 34,404 hours.

Total Annual Cost(s): No Cost.

Needs and Uses: In order to determine which carriers are entitled to universal service support, all rate-of-return regulated (rate-of-return) incumbent local exchange carriers (LECs) must provide the National Exchange Carrier Association (NECA) with the loop cost and loop count data required by section 54.1305 for each of its study areas and, if applicable, for each wire center as that term is defined in 47 CFR part 54. See 47 CFR 54.1305, 54.5. The loop cost and loop count information is to be filed annually with NECA by July 31st of each year. See 47 CFR 54.1305. Pursuant to section 54.1307, the information filed on July 31st of each year will be used to calculate universal service support for each study area and is filed by NECA with the Commission on October 1 of each year. See 47 CFR 54.1307. An incumbent LEC is defined as a carrier that meets the definition of “incumbent local exchange carrier” in section 51.5 of the Commission's rules. See 47 CFR 51.5.

In March 2016, the Commission adopted the Rate-of-Return Reform Order to continue modernizing the universal service support mechanisms for rate-of-return carriers. Connect America Fund et al., Report and Order et al., 31 FCC Rcd 3087 (2016) (Rate-of-Return Reform Order). The Rate-of-Return Reform Order replaced the Interstate Common Line Support (ICLS) mechanism with the Connect America Fund—Broadband Loop Support (CAF-BLS) mechanism. Id. at 3117-57, paras. 80-187. While ICLS supported only lines used to provide traditional voice service (including voice service bundled with broadband service), CAF-BLS also supports consumer broadband-only loops. Id. at 3157-62, paras. 188-204. For the purposes of calculating and monitoring CAF-BLS, rate-of-return carriers that receive CAF-BLS must file common line and consumer broadband-only loop counts on FCC Form 507, forecasted common line and consumer broadband-only loop costs and revenues on FCC Form 508, and actual common line and consumer broadband-only loop costs and revenues on FCC Form 509. See 47 CFR 54.903(a).

In December 2018, the Commission adopted the December 2018 Rate-of-Return Reform Order to require rate-of-return carriers that receive Alternative Connect American Model (A-CAM) or Alaska Plan support to file line count data on FCC Form 507 as a condition of high-cost support. Connect America Fund et al., WC Docket No. 10-90 et al., Report and Order, Further Notice of Proposed Rulemaking and Order on Reconsideration, 33 FCC Rcd 11893 (2018) (2018 Rate-of-Return Reform Order). Historically, all rate-of-return carriers that received CAF-BLS or, prior to that, ICLS, were required to file line count data on FCC Form 507 as a condition of that support but Rate-of-return carriers that had elected to receive A-CAM I, A-CAM II, or Alaska Plan instead were not. Id. at 11937, para. 148. In order to restore a data set that the Commission relied on to evaluate the effectiveness of its high-cost universal service programs, the Commission revised its rules in that Order to require all rate-of-return carriers to file that data. See id. at 11937, para. 51. While carriers receiving CAF-BLS must file the line count data on March 31 for line counts as of the prior December 31, the A-CAM I, A-CAM II, and Alaska Plan carriers will be required to file on July 1 of each year to coincide with other existing requirements in OMB Control No. 3060-0986. 47 CFR 54.903(a)(1), 54.313(f)(5).

On October 20, 2023, the Commission made changes to rate-of-return reporting rules by eliminating optional unseparated loop cost data quarterly updates. Connect America Fund et al., WC Docket No. 10-90 et al. WT Docket No. 10-208, Notice of Proposed Rulemaking and Report and Order, FCC 23-87 at 79-80, paras. 181-82 (Oct. 20, 2023). In addition, the Commission amended section 36.4 of the Commission's rules, 47 CFR 36.4, to require local exchange carriers seeking a change in study area boundaries to submit a petition for waiver of these boundary changes notwithstanding any prior exemptions from such waiver requests including, but not limited to, when a company is combining previously unserved territory with one of its study areas or a holding company is consolidating existing study areas within the same state. See id. at 176-180, paras. 77-79.

Federal Communications Commission.
Marlene Dortch,
Secretary.

[FR Doc. 2024-27481 Filed 11-22-24; 8:45 am]

BILLING CODE 6712-01-P